DEPARTMENT OF THE INTERIOR

Bureau of Land Management

[UT-020-00-1220-DH]

Notice of Availability of Environmental Assessment (EA)/Finding of No Significant Impact (FONSI) for a Proposed Plan Amendment to the Pony Express Resource Management Plan (RMP)

AGENCY: Bureau of Land Management, Interior.

SUMMARY: Pursuant to section 102(2)(c) of the National Environmental Policy Act of 1969, the Bureau of Land Management (BLM), Salt Lake Field Office, Utah announces the availability of an EA/FONSI for a plan amendment to the Pony Express RMP. On February 3, 1997, as amended on August 10, 1999, the Salt Lake Field Office published in the Federal Register a notice of intent to conduct a plan amendment to the RMP.

Under the Bureau Planning System, Special Recreation Management Areas (SRMA) are designated where significant public recreation issues or management concerns occur. Special or more intensive types of management are typically needed. Detailed activity planning, including recreation, is required in these areas and greater managerial investment is likely. This amendment will accomplish two main objectives: One, designate Fivemile Pass a SRMA, to facilitate the planning process to address recreation use and management issues, needs, and priorities; and two, establish Off-Road Vehicle designations. Designation of a SRMA initiates the activity level planning process, including the development of an activity plan. This activity plan will be developed as a Coordinated Resource Management Plan and address site specific recreation development, maintenance, and operational details such as specific route identification, camping areas, staging areas, facilities (loading ramps, outhouses, weed spray stations, etc.), special stipulations for organized events, use limits, and specific regulations for the area as well as site specific management prescriptions for other resources in the area. The SRMA would be managed primarily for recreational uses, but would remain a multiple-use management area. The existing RMP would be updated for all uses incorporating changes in land use patterns.

DATES: The proposed plan amendment may be protested. The protest period will commence with the date of publication of this notice. Protests must be submitted on or before September 29, 2000.

ADDRESSES: Protests must be addressed to the Director (WO-210), Bureau of Land Management, Attn.: Brenda Williams, Resource Planning Team, 1849 C Street, NW, Washington, D.C. 20240, within 30 days after the date of publication of this notice for the proposed planning amendment.

FOR FURTHER INFORMATION CONTACT: For information on the BLM plan amendment contact Britta Laub, Outdoor Recreation Planner, telephone (801) 977-4389. Existing planning documents and information are available at the above Utah BLM Salt Lake Field Office address.

SUPPLEMENTARY INFORMATION: Any person who participated in the planning process and has an interest which is or may be adversely affected by the Proposed Plan Amendment may protest to the Director of the Bureau of Land Management. The protest must be in writing and filed within 30 days of the date of publication of this Notice of Availability in the Federal Register. The protest must be specific and contain the following information:

—The name, mailing address, telephone number and interest of the person filing the protest;

—A statement of the issue(s) being protested;

—A statement of the part(s) of the proposed amendment being protested;

—A copy of all documents addressing the issue(s) that were submitted by the protestor during the planning process; and

—A concise statement explaining why the BLM State Director's proposed decision is believed to be in error.

In the absence of timely objections, this proposal shall become the final determination of the Department of the Interior.

Bob Bennett,
Acting State Director.

[FR Doc. 00-22287 Filed 8-29-00; 8:45 am]

BILLING CODE 4310-DQ-P